DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing an update to the identifying information of persons currently included in OFAC's Non-SDN Chinese Military-Industrial Complex Companies List. Any purchase or sale of any publicly traded securities, or any publicly traded securities that are derivative of such securities or are designed to provide investment exposure to such securities, of any of these persons, by any United States person in violation of Executive Order 13959 (“E.O. 13959”), as amended by Executive Order 14032 (“E.O. 14032”), is prohibited.

DATES: See Supplementary Information section for applicable date(s).

FOR FURTHER INFORMATION CONTACT:

OFAC: Bradley Smith, Acting Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Non-SDN Chinese Military-Industrial Complex Companies List and additional information concerning OFAC sanctions programs are available on OFAC's website (www.treasury.gov/ofac).

Notice of OFAC Action[s]

OFAC is updating the Non-SDN Chinese Military-Industrial Complex Companies List entries for the following persons, who continue to be subject to the prohibitions in E.O. 13959, as amended by E.O. 14032.

Entities

1. CNOOC LIMITED (a.k.a. CNOOC LTD), Bank of China Tower, 65th Floor, 1, Garden Road, Hong Kong, China; Equity Ticker 00883 HK; alt. Equity Ticker CNU CA; alt. Equity Ticker NC2B DE; alt. Equity Ticker CEO US; Issuer Name CNOOC Limited; alt. Issuer Name CNOOC Ltd; ISIN HK0883013259; alt. ISIN US1261321095; alt. ISIN HK2998013240; alt. ISIN BRC1EODR004; alt. ISIN HK0883013259; Target Type Public Company; Effective Date (CMIC) 02 Aug 2021; Purchase/Sales For Divestment Date (CMIC) 03 Jun 2022; Listing Date (CMIC) 03 Jun 2021; Company Number 0685974 (Hong Kong); Legal Entity Number 549300XIVJCBIGMRUD48 [CMIC-EO13959] (Linked To: CHINA NATIONAL OFFSHORE OIL CORPORATION).

2. AVIATION INDUSTRY CORPORATION OF CHINA, LTD. (a.k.a. AVIATION INDUSTRY CORP OF CHINA; a.k.a. AVIATION INDUSTRY OF CHINA; a.k.a. “AVIC”), Building 19 Compound A5 Shuguang Xili Chaoyang District, Beijing 100028, China; Issuer Name Aviation Industry Corporation of China, Ltd; ISIN CND10001WSL0; alt. ISIN CND10002HNP1; alt. ISIN CND10002DPC3; Target Type State-Owned Enterprise; Effective Date (CMIC) 02 Aug 2021; Purchase/Sales For Divestment Date (CMIC) 03 Jun 2022; Listing Date (CMIC) 03 Jun 2021; Unified Social Credit Code (USCC) 91110000710935732K (China) [CMIC-EO13959].

Dated: June 16, 2021.
Bradley Smith,
Acting Director, Office of Foreign Assets Control, U.S. Department of the Treasury.

[FR Doc. 2021-13080 Filed 6-21-21; 8:45 am]

BILLING CODE 4810-AL-P